DEPARTMENT OF LABOR

Agency Information Collection Activities; Submission for OMB Review; Comment Request, the Substance Use-Disorder Prevention That Promotes Opioid Recovery and Treatment for Patients and Communities (SUPPORT) Act Grants Evaluation, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the SUPPORT Act Grant Program Evaluation. A copy of the proposed Information Collection Request (ICR) can be obtained by contacting the office listed below in the addressee section of this notice.

DATES: Written comments must be submitted to the office listed in the ADDRESSES section below on or before June 13, 2022.

ADDRESSES: You may submit comments by either one of the following methods:

Email: ChiefEvaluationOffice@dol.gov; Mail or Courier: Kuang-chi Chang, Chief Evaluation Office, OASP, U.S. Department of Labor, Room S-2312, 200 Constitution Avenue NW, Washington, DC 20210.

Instructions: Please submit one copy of your comments by only one method. All submissions received must include the agency name and OMB Control Number identified above for this information collection. Comments, including any personal information provided, become a matter of public record. They will also be summarized and/or included in the request for OMB approval of the information collection request.

FOR FURTHER INFORMATION CONTACT: Kuang-chi Chang by email at ChiefEvaluationOffice@dol.gov or by phone at (202)693-5992.

SUPPLEMENTARY INFORMATION:

I. Background

The Chief Evaluation Office (CEO) in partnership with the Employment and Training Administration (ETA) is sponsoring an implementation evaluation of the Substance Use-Disorder Prevention that Promotes Opioid Recovery and Treatment for Patients and Communities (SUPPORT) Act Grants. The implementation evaluation will inform program administrators and practitioners on innovative practices and implementation challenges in providing services that address both employment and treatment needs for people with substance use disorders (SUDs). This Federal Register Notice provides the opportunity to comment on proposed data collection instruments that will be used in the implementation evaluation. The proposed information collection activity consists of:

1. Data collection planning interviews. Interviews with grantees and sub-grantees will be used to obtain background information for planning site visits to grantees and sub-grantees, identify partners to participate in the site visits, and identify key areas of interest for implementation learning activities.

2. Web-based surveys. The surveys will collect information from grantees about key relationships for program implementation that will be used for a social network analysis. The surveys will collect consistent information from sub-grantees about local implementation of grant-funded services across all sub-grantees. It will also collect information from community and employer partners about their involvement in grant-funded services, employer engagement, and relationships with the sub-grantee and other partners.

3. Implementation study site visits. Site visits will document the program context, program organization and staffing, program components, and other relevant aspects of grant activities. During the visits, site teams will interview key grantee administrators and staff, sub-grantee program managers and staff, and key community and employer partners using a modular interview guide that will be tailored for each respondent.

4. In-depth participant interviews. During implementation study site visits, site teams will interview program participants to learn about their experiences and attitudes about the SUPPORT Act grant-funded programs. Participants will also complete a brief participant information form to document demographic information about those responding to interviews.

5. Final reflection interviews. Approximately one year after site visits, grantee and sub-grantee program managers will be interviewed about changes to implementation, sustainability of grant-funded services, and to reflect on implementation learning activities.

Much of this data collection will occur during site visits to each grantee and selected sub-grantees. Surveys will be web-based and the data collection planning interviews and final reflection interviews will be conducted via video-conference.

II. Desired Focus of Comments

Currently, the Department of Labor is soliciting comments concerning the above data collection for the SUPPORT Act Grants Evaluation. DOL is particularly interested in comments that do the following:

○ Evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions

At this time, the Department of Labor is requesting clearance for the data collection planning interviews, web-based surveys, implementation study site visits, in-depth participant interviews, and final reflection interviews.

Type of Review: New information collection request.

OMB Control Number: 1290-0NEW.

Affected Public: SUPPORT Act grantee and sub-grantee staff, sub-grantee partners involved in providing training, employment, and treatment and recovery services, and SUPPORT Act grant program participants.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Interview Guide for Data Collection Planning—Grantee Director | ¹ 4 | 1 | 2 | 1 | 2
Interview Guide for Data Collection Planning—Sub-grantee Director | ¹ 8 | 1 | 4 | 1.5 | 6.5
Survey—Grantee Director | ² 4 | 1 | 2 | 0.5 | 1
Survey—Sub-grantee Director | ² 18 | 1 | 9 | 1 | 9
Survey—Sub-Grantee Community Partner | ² 72 | 1 | 36 | 0.5 | 18
Survey—Sub-Grantee Employer Partner | ² 18 | 1 | 9 | 0.5 | 4.5
Interview Guide—Grantee Director | ³ 4 | 1 | 2 | 1.5 | 3
Interview Guide—Grantee Staff | ³ 16 | 1 | 8 | 1 | 8
Interview Guide—Sub-grantee Director | ⁴ 8 | 1 | 4 | 1.5 | 6
Interview Guide—Sub-grantee Staff | ⁴ 40 | 1 | 20 | 1 | 20
Interview Guide—Sub-grantee Community Partner | ⁴ 24 | 1 | 12 | 1 | 12
Interview Guide—Sub-Grantee Employer Partner | ⁴ 8 | 1 | 4 | 1 | 4
In-depth Participant Interview Consent Form | ⁵ 40 | 1 | 20 | .12 | 2.4
In-depth Participant Interview Guide | ⁵ 40 | 1 | 20 | 1 | 20
Participant Interview Information Form | ⁵ 40 | 1 | 20 | .12 | 2.4
Final Reflection Interview Guide—Grantee Director | ⁶ 4 | 1 | 2 | 1.5 | 3
Final Reflection Interview Guide—Sub-grantee Director | ⁶ 8 | 1 | 4 | 1.5 | 6
Total | 356 |  | 178 |  | 127.8
¹ Assumes planning interviews with 4 grantees and the 8 sub-grantees selected for site visits.
² Assumes survey responses for 4 grantees, 18 sub-grantees, 4 community partners per sub-grantee, and 1 employer partner per sub-grantee.
³ Assumes site visits to 4 grantees, which include 4 grantee director interviews and 4 staff interviews per grantee.
⁴ Assumes site visits to 8 sub-grantees, which include 8 sub-grantee director interviews, 5 staff interviews per sub-grantee, 3 community partners and 1 employer partner per sub-grantee.
⁵ Assumes 5 in-depth participant interviews per 8 sub-grantees.
⁶ Assumes final reflection interviews with 4 grantees and 8 sub-grantees.

Christina Yancey,
Chief Evaluation Officer, U.S. Department of Labor.

[FR Doc. 2022-07873 Filed 4-12-22; 8:45 am]

BILLING CODE 4510-HX-P